ENVIRONMENTAL PROTECTION AGENCY

[FRL-9940-51-Region 9]

Riverside Chrome Plating Superfund Site; Notice of Proposed CERCLA Administrative Cost Recovery Settlement

AGENCY: Environmental Protection Agency (EPA).

ACTION: Notice; request for public comment.

SUMMARY: The United States Environmental Protection Agency (EPA) is hereby providing notice of a proposed administrative settlement with two parties for recovery of response costs concerning the Riverside Chrome Plating Superfund Site in Riverside County, California (the Site). The proposed settlement requires Settling Parties Cleon Benson and SP Group, who own the Site property, to pay $86,388.99 to reimburse EPA for funds expended in performing and overseeing response actions at the Site. For thirty (30) days following the date of publication of this Notice in the Federal Register, EPA will receive written comments relating to the proposed settlement. EPA will consider all comments received and may modify or withdraw its consent to the settlement if comments received disclose facts or considerations which indicate the proposed settlement is inappropriate, improper, or inadequate. EPA's response to any comments received will be available for public inspection at 75 Hawthorne Street, San Francisco, CA 94105.

DATES: EPA will receive written comments relating to the settlement until January 22, 2016.

ADDRESSES: The proposed settlement is available for public inspection at EPA Region IX, 75 Hawthorne Street, San Francisco, California. A copy of the proposed settlement may be obtained from Craig Whitenack, EPA Region IX, 600 Wilshire Blvd., Suite 1460 (SFD-7-5), Los Angeles, California 90017, telephone number (213) 244-1820. Comments should reference the Riverside Chrome Plating Superfund Site, Riverside, California, and should be addressed to Craig Whitenack at the above address.

FOR FURTHER INFORMATION CONTACT: Craig Whitenack, EPA Region IX, 600 Wilshire Blvd., Suite 1460 (SFD-7-5), Los Angeles, California 90017, telephone number (213) 244-1820; email Whitenack.Craig@EPA.Gov.

SUPPLEMENTARY INFORMATION: EPA enters into this proposed settlement pursuant to Section 122(i) of the Comprehensive Environmental Response, Compensation, and Liability Act of 1980, as amended (CERCLA), 42 U.S.C. 9622(i). The proposed settlement includes a covenant by EPA not to sue the settling parties pursuant to Sections 106 or 107(a) of CERCLA, 42 U.S.C. 9606 or 9607(a), conditioned upon Settling Parties' compliance with the terms of the proposed settlement agreement.

Dated: November 30, 2015.
Enrique Manzanilla,
Director, Superfund Division, U.S. EPA Region IX.

[FR Doc. 2015-32345 Filed 12-22-15; 8:45 am]

BILLING CODE 6560-50-P